SUSQUEHANNA RIVER BASIN COMMISSION

Grandfathering (GF) Registration Notice

AGENCY: Susquehanna River Basin Commission.

ACTION: Notice.

SUMMARY: This notice lists Grandfathering Registration for projects by the Susquehanna River Basin Commission during the period set forth in DATES.

DATES: March 1-31, 2022.

ADDRESSES: Susquehanna River Basin Commission, 4423 North Front Street, Harrisburg, PA 17110-1788.

FOR FURTHER INFORMATION CONTACT: Jason E. Oyler, General Counsel and Secretary to the Commission, telephone: (717) 238-0423, ext. 1312; fax: (717) 238-2436; email: joyler@srbc.net. Regular mail inquiries may be sent to the above address.

SUPPLEMENTARY INFORMATION: This notice lists GF Registration for projects, described below, pursuant to 18 CFR 806, subpart E for the time period specified above: Grandfathering Registration Under 18 CFR part 806, subpart E:

1. Furman Farms, Inc., GF Certificate No. GF-202203207, various municipalities and counties, Pa.; see Addendum; Issue Date: March 11, 2022.

2. Motor Components, LLC, GF Certificate No. GF-202203208, Town of Horseheads and Village of Elmira Heights, Chemung County, N.Y.; Wells 1, 2, and 3; Issue Date: March 11, 2022.

3. Pennsy Supply, Inc.—Penn Township Quarry, GF Certificate No. GF-202203209, Penn Township, Cumberland County, Pa.; Wells 1 and 3; Issue Date: March 1, 2022.

4. City of Hornell—Public Water Supply System, GF Certificate No. GF-202203210, Towns of Hornellsville and Fremont, Steuben County, N.Y.; Reservoir 1 and combined withdrawal from Wells 1 and 2; Issue Date: March 17, 2022.

5. Cortland Country Club, Inc.—Cortland Country Club, GF Certificate No. GF-202203211, Town of Cortlandville, Cortland County, N.Y.; combined withdrawal from Wells 1 and 2 and consumptive use; Issue Date: March 17, 2022.

Authority: Public Law 91-575, 84 stat. 1509 et seq., 18 CFR parts 806 and 808.

Dated: April 8, 2022.
Jason E. Oyler,
General Counsel and Secretary to the Commission.

[FR Doc. 2022-07883 Filed 4-12-22; 8:45 am]

BILLING CODE 7040-01-P